NATIONAL ARCHIVES AND RECORDS ADMINISTRATION

36 CFR Part 1200

[NARA-10-0006]

RIN 3095-AB70

New Agency Logos

AGENCY: National Archives and Records Administration (NARA).

ACTION: Direct final rule.

SUMMARY: NARA is adding four new official logos. One is the new agency-wide official logo for use on agency correspondence and other communications and publicity media. The other three logos are for new offices within NARA—the Office of Government Information Services (OGIS), the Controlled Unclassified Information Office (CUI), and the National Declassification Center (NDC).

DATES: Effective January 11, 2011 without further action, unless adverse comment is received by February 10, 2011. If adverse comment is received, NARA will publish a timely withdrawal of the rule in the Federal Register.

ADDRESSES: Adverse comments may be submitted by the deadline. Please include “RIN 3095-AB70,” “Attn: Kimberly Keravuori,” and your name and mailing address in your comments. Comments may be submitted by any of the following methods:

• Federal eRulemaking Portal: Go to: http://www.regulations.gov. Follow the instructions for submitting comments.

• Fax: Submit comments by facsimile transmission to 301-837-0319.

• Mail: Send comments to Regulations Comments Desk (NPOL), Room 4100, National Archives and Records Administration; Policy and Planning Office; Attn: Kimberly Keravuori; 8601 Adelphi Road; College Park, MD 20740.

• Hand Delivery or Courier: Deliver comments to 8601 Adelphi Road, College Park, MD.

FOR FURTHER INFORMATION CONTACT: Kimberly Keravuori at 301-837-3151.

SUPPLEMENTARY INFORMATION: For the purposes of agency recognition and branding, and in compliance with the Office of Management and Budget's Memorandum 10-23, Guidance for Agency Use of Third-Party Web sites and Applications, and the agency's Open Government initiatives, the Archivist has designated a NARA-wide official agency logo. This logo is for use on agency letterhead, all agency social media sites, and other agency communications or publicity media as a consistent branding image for agency recognition. The logo does not replace NARA's official seals.

The second logo is for the Office of Government Information Services (OGIS). The OPEN Government Act of 2007 amended the Freedom of Information Act, or FOIA (5 U.S.C. 552) to create the OGIS within NARA. As part of its statutory duties as ombudsman of the Federal FOIA program, OGIS has developed an office logo for instant recognition of OGIS and its programs and services across the Federal government and amongst FOIA requesters.

The third logo is for the Controlled Unclassified Information (CUI) Office. The Archivist of the United States' Memorandum, dated May 21, 2008, established the CUI Office within NARA and its purpose is to develop and implement policy standards for CUI, guided by Presidential direction. The CUI logo is a symbol of NARA's policy office for CUI and has been designed to convey recognition of the standardization of CUI policy across the Federal government.

The fourth logo is for the National Declassification Center (NDC). The NDC was established in accordance with Section 3.7 of Executive Order 13526, by the Archivist of the United States on December 30, 2009. Its mission is to align people, processes, and technologies to advance the declassification and public release of historically valuable permanent records while maintaining national security. The NDC logo is being adopted to provide a recognizable, standard brand for the NDC and its activities.

Permission is required for the replication or use of these logos.

This rule is effective upon publication for good cause as permitted by the Administrative Procedure Act (5 U.S.C. 553(d)(3)). NARA believes that delaying the effective date for 30 days is unnecessary as this rule represents minor technical amendments and there are no changes to the public's ability to utilize its logos or of services to the public. In addition, the public will benefit immediately from recognition of NARA's new official logo when it appears on documents.

This direct final rule is not a significant regulatory action for the purposes of Executive Order 12866 and has not been reviewed by the Office of Management and Budget (OMB). As required by the Regulatory Flexibility Act, it is hereby certified that this rule will not have a significant impact on a substantial number of small business entities because this rules applies to the agency by adding new agency logos. This rule does not have any federalism implications.

List of Subjects in 36 CFR Part 1200

Logos, archives and records.

For the reasons stated in the preamble, NARA amends Title 36 of the Code of Federal Regulations as follows:

PART 1200—OFFICIAL SEALS

1. The authority citation for part 1200 continues to read as follows:

Authority: 18 U.S.C. 506, 701, 1017; 44 U.S.C. 2104(e), 2116(b), 2302.

Subpart B—How are NARA's Official Seals and Logos Designed and Used?

§ 1200.4 [Amended]

2. Amend § 1200.4 (a)(1) by removing the punctuation and phrase “, e.g., stationery”.

3. In § 1200.7:

a. Redesignate paragraphs (a) through (d) as paragraphs (d) through (g);

b. Add new paragraphs (a) through (c);

c. Revise newly redesignated paragraph (d) introductory text;

d. In newly redesignated paragraph (d)(7), remove “and”;

e. In newly redesignated paragraph (d)(8), remove the period and add a semicolon in its place; and

f. Add paragraphs (d)(10), (11), and (12).

g. In newly redesignated paragraph (e) introductory text, italicize the paragraph heading; and

h. Revise newly redesignated paragraphs (f) introductory text and (g).

The revisions and additions read as follows:

§ 1200.7 What are NARA logos and how are they used?

(a) Agency logo. NARA has one official agency logo, which is illustrated as follows:

(b) The official agency logo is used:

(1) On agency letterhead and business cards;

(2) On all NARA web and social media sites (intranet and internet), whether hosted internally, remotely, or on a public forum (including sites on which a NARA office or program logo also appears);

(3) On exhibits;

(4) On publicity and other branding materials, and on items associated with a one-time or recurring NARA event or activity;

(5) On agency communications and presentations; and

(6) On other items as approved by the Archivist or his designee.

(c) The official agency logo does not replace NARA's official seals on other agency official business, such as certified records, the Federal Register, and authenticated copies.

(d) Office and program logos. NARA's official office and program logos include, but are not limited to, those illustrated as follows:

* * * * *

(10) The Office of Government Information Services (OGIS);

(11) The Controlled Unclassified Information Office (CUI); and

(12) The National Declassification Center (NDC).

(f) NARA uses its office, program, and other official logos (usually in conjunction with the agency logo) for official business, which includes, but is not limited to:

* * * * *

(g) Use of logos by others. NARA logos may be used by the public and other Federal agencies for events or activities co-sponsored by NARA, but only with the written approval of the Archivist or his designee. See Subpart C for procedures to request approval for use.

Subpart C—[Amended]

4. Revise the heading for § 1200.8 to read as follows:

§ 1200.8 How do I request to use the official seals and logos?

* * * * *

Dated: January 5, 2011.
David S. Ferriero,
Archivist of the United States.

[FR Doc. 2011-492 Filed 1-10-11; 8:45 am]

BILLING CODE 7515-01-P